ENVIRONMENTAL PROTECTION AGENCY

[ER-FRL-6690-5]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167.

An explanation of the ratings assigned to draft environmental impact statements (EISs) was published in FR dated April 6, 2007 (72 FR 17156).

Draft EISs

EIS No. 20070255, ERP No. D-BLM-K39018-NV, Kane Springs Valley Groundwater Development Project, To Construct Infrastructure Required to Pump and Convey Groundwater Resources, Right-of-Way Application, Lincoln County Water District, Lincoln County, NV

Summary: EPA expressed environmental concerns about cumulative impacts, conservation, water use efficiency, and the long-term availability of the water supply, and recommends continued collaboration through a regional groundwater framework to ensure efficient long-term sustainable use of the deep carbonate-rock aquifer. Rating EC2.

EIS No. 20070310, ERP No. D-AFS-L65540-WA, Old Curlew Ranger Station Facilities Disposal Project, Proposal to Sell 3-Acre Parcel Including Buildings, Republic Ranger District, Colville National Forest, South Side of Curlew, Ferry County, WA

Summary: EPA does not object to the proposed project. However, we recommended that Forest Service provide the buyer with information on hazardous materials and testing related to the site remediation. Rating LO.

Final EISs

EIS No. 20070262, ERP No. F-NPS-K39103-CA, Giacomini Wetland Restoration Project, Propose to Restore Natural Hydrologic and Ecological Processes, Golden Gate National Recreation Area, Point Reyes National Seashore, Marin County, CA

Summary: No formal comment letter was sent to the preparing agency.

EIS No. 20070329, ERP No. F-GSA-F60010-OH, Cincinnati National Institute for Occupational Safety and Health (NIOSH) Laboratories Consolidation, Site Selection, Hamilton and Clermont Counties, OH

Summary: EPA's previous concerns were resolved; therefore, EPA does not object to the proposed action.

EIS No. 20070353, ERP No. F-NOA-A91071-00, Atlantic Large Whale Take Reduction Plan, Proposed Amendments to Implement Specific Gear Modifications for Trap/Pot and Gillnet Fisheries, Broad-Based Gear Modifications, Exclusive Economic Zone (EEZ), ME, CT and RI

Summary: EPA does not object to the proposed action.

Dated: August 28, 2007.
Robert W. Hargrove,
Director, NEPA Compliance Division, Office of Federal Activities.

[FR Doc. E7-17334 Filed 8-30-07; 8:45 am]

BILLING CODE 6560-50-P